DEPARTMENT OF THE INTERIOR

National Park Service

[NPS-WASO-NAGPRA-NPS0036106; PPWOCRADN0-PCU00RP14.R50000]

Notice of Inventory Completion: Central Washington University, Ellensburg, WA

AGENCY: National Park Service, Interior.

ACTION: Notice.

SUMMARY: In accordance with the Native American Graves Protection and Repatriation Act (NAGPRA), Central Washington University has completed an inventory of human remains and has determined that there is no cultural affiliation between the human remains and any Indian Tribe. The human remains were removed from the Olympic Peninsula, WA.

DATES: Disposition of the human remains in this notice may occur on or after August 2, 2023.

ADDRESSES: Lourdes Henebry-DeLeon, Department of Anthropology and Museum Studies, Central Washington University, 400 E University Way, Ellensburg, WA 98926-7544, telephone (509) 963-2671, email Lourdes.Henebry-DeLeon@cwu.edu.

SUPPLEMENTARY INFORMATION: This notice is published as part of the National Park Service's administrative responsibilities under NAGPRA. The determinations in this notice are the sole responsibility of Central Washington University. The National Park Service is not responsible for the determinations in this notice. Additional information on the determinations in this notice, including the results of consultation, can be found in the inventory or related records held by Central Washington University.

Description

Around 1920, human remains representing, at minimum, one individual were removed from an unknown location on the Olympic Peninsula, WA, by Paul Brenton. In 1940, Dwight Brenton donated an “Indian skull & 2 leg bones” to the Burke Museum. In 1974, the Burke Museum transferred the left and right femurs (Burke Museum number 19-14869) to Central Washington University (Central Washington University number 3170) and retained the cranium (Burke Museum number 19-14868). (On February 19, 2013, the Burke Museum published a Notice of Inventory Completion in the Federal Register for the cranium (78 FR 11675-11676).) No associated funerary objects are present.

Aboriginal Land

The human remains in this notice were removed from known geographic locations. These locations are the aboriginal lands of one or more Indian Tribes. The following information was used to identify the aboriginal land: a final judgment of the Indian Claims Commission, the Treaty of the Quinault River of 1855, the Treaty of Neah Bay of 1855, and the Treaty of Point No Point of 1855.

Determinations

Pursuant to NAGPRA and its implementing regulations, and after consultation with the appropriate Indian Tribes, the Central Washington University has determined that:

• The human remains described in this notice represent the physical remains of one individual of Native American ancestry.

• No relationship of shared group identity can be reasonably traced between the human remains and associated funerary objects and any Indian Tribe.

• The human remains described in this notice were removed from the aboriginal land of the Hoh Indian Tribe; Jamestown S'Klallam Tribe; Lower Elwha Tribal Community; Makah Indian Tribe of the Makah Indian Reservation; Port Gamble S'Klallam Tribe; Quileute Tribe of the Quileute Reservation; Quinault Indian Reservation; and the Skokomish Indian Tribe.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after August 2, 2023. If competing requests for disposition are received, Central Washington University must determine the most appropriate requestor prior to disposition. Requests for joint disposition of the human remains are considered a single request and not competing requests. Central Washington University is responsible for sending a copy of this notice to the Indian Tribes identified in this notice.

Authority: Native American Graves Protection and Repatriation Act, 25 U.S.C. 3003, and the implementing regulations, 43 CFR 10.9 and 10.11.

Dated: June 21, 2023.
Melanie O'Brien,
Manager, National NAGPRA Program.

[FR Doc. 2023-14080 Filed 6-30-23; 8:45 am]

BILLING CODE 4312-52-P